DEPARTMENT OF HOUSING AND URBAN DEVELOPMENT

[Docket No. FR-6237-N-03]

Notice of a Federal Advisory Committee Meeting Manufactured Housing Consensus Committee

AGENCY: Office of the Assistant Secretary for Housing—Federal Housing Commissioner, Department of Housing and Urban Development (HUD).

ACTION: Notice of Federal Advisory Committee Meetings: Manufactured Housing Consensus Committee (MHCC, Committee).

SUMMARY: This notice sets forth the schedule and proposed agenda for a special meeting of the Manufactured Housing Consensus Committee, to be held via teleconference and webinar. The meeting is open to the public. The agenda for the meeting provides an opportunity for citizens to comment on the business before the MHCC.

DATES: The MHCC Special Meeting will be held on January 7, 2021, 10:00 a.m. to 4:00 p.m. Eastern Standard Time (EST). The teleconference number is: 301-715-8592 or 646-558-8656 and the Meeting ID is: 91922949559. To access the webinar, use the following link: https://zoom.us/j/91922949559.

FOR FURTHER INFORMATION CONTACT: Teresa B. Payne, Administrator, Office of Manufactured Housing Programs, Department of Housing and Urban Development, 451 7th Street SW, Room 9166, Washington, DC 20410, telephone 202-402-2698 (this is not a toll-free number). Persons who have difficulty hearing or speaking may access this number via TTY by calling the Federal Information Relay Service at 800-877-8339 (this is a toll-free number).

SUPPLEMENTARY INFORMATION: Notice of this meeting is provided in accordance with the Federal Advisory Committee Act, 5 U.S.C. App. 10(a)(2) through implementing regulations at 41 CFR 102-3.150. The MHCC was established by the National Manufactured Housing Construction and Safety Standards Act of 1974, 42 U.S.C. 5403(a)(3), as amended by the Manufactured Housing Improvement Act of 2000, (Pub. L. 106-569, Sec. 601, et seq.). According to 42 U.S.C. 5403, as amended, the purposes of the MHCC are to:

• Provide periodic recommendations to the Secretary to adopt, revise, and interpret the Federal manufactured housing construction and safety standards in accordance with this subsection;

• Provide periodic recommendations to the Secretary to adopt, revise, and interpret the procedural and enforcement regulations, including regulations specifying the permissible scope and conduct of monitoring in accordance with subsection (b); and

• Be organized and carry out its business in a manner that guarantees a fair opportunity for the expression and consideration of various positions and for public participation.

The MHCC is deemed an advisory committee not composed of Federal employees.

Public Comment: Citizens wishing to make comments on the business of the MHCC must register in advance by contacting the Administering Organization (AO), Home Innovation Research Labs; Attention: Kevin Kauffman, 400 Prince Georges Blvd., Upper Marlboro, MD 20774, or email to mhcc@homeinnovation.com, or call 888-602-4663. With advance registration, members of the public will have an opportunity to provide written comments relative to agenda topics for the Committee's consideration. All written comments must be provided to mhcc@homeinnovation.com. Written comments must be provided no later than December 30, 2020. Please note, written comments submitted will not be read during the meeting but will be provided to the MHCC members prior to the meeting. The MHCC will also provide an opportunity for oral public comments on specific matters before the MHCC at each meeting. The total amount of time for oral comments will be 30 minutes, in two 15-minute periods, with each commenter limited to two minutes, if necessary, to ensure pertinent Committee business is completed and all public comments can be expressed. The Committee will not respond to individual written or oral statements; however, it will take all public comments into account in its deliberations. The MHCC strives to accommodate citizen comments to the extent possible within the time constraints of the meeting agenda.

Tentative Agenda for MHCC Teleconference

Thursday, January 7, 2021—10 a.m. to 4 p.m. EST

I. Call to Order—MHCC Chair & Designated Federal Officer (DFO), Roll Call (AO)

II. Opening Remarks—MHCC Chair & DFO

A. Introductions

i. HUD Staff

ii. Guests

B. Administrative Announcements—DFO & AO

III. Approval of draft minutes from October 29-31, 2019 MHCC meeting

IV. Public Comment Period—15 minutes

V. Discussion on Advance Notice of Proposed Rulemaking on Minimum Payments to the States.

VI. Lunch from 12:30 p.m. to 1:30 p.m.

VII. Continued Discussion on ANPR

VIII. Public Comment Period—15 minutes

IX. Wrap Up—DFO & AO

X. Adjourn

Dana T. Wade,
Assistant Secretary for Housing—Federal Housing Commissioner.

[FR Doc. 2020-28597 Filed 12-22-20; 8:45 am]

BILLING CODE 4210-67-P